DEPARTMENT OF HEALTH AND HUMAN SERVICES

Food and Drug Administration

Advisory Committee; Renewals

AGENCY: Food and Drug Administration, HHS.

ACTION: Notice.

SUMMARY: The Food and Drug Administration (FDA) is announcing the renewal of certain FDA advisory committees by the Commissioner of Food and Drugs (the Commissioner). The Commissioner has determined that it is in the public interest to renew the charters of the committees listed below for an additional 2 years beyond charter expiration date. The new charters will be in effect until the dates of expiration listed below. This notice is issued under the Federal Advisory Committee Act of October 6, 1972 (Public Law 92-463 (5 U.S.C. app. 2)).

DATES: Authority for these committees will expire on the date indicated below unless the Commissioner formally determines that renewal is in the public interest.

Name of committee | Date of Expiration
Advisory Committee on Special Studies Relating to the Possible Long-Term Health Effects of Phenoxy Herbicides and Contaminants |
| December 2, 2001
Food Advisory Committee | December 18, 2001
Vaccines and Related Biological Products Advisory Committee | December 31, 2001
Advisory Committee for Pharmaceutical Science | January 22, 2002
Pharmacy Compounding Advisory Committee | February 3, 2002
Medical Imaging Drugs Advisory Committee | February 28, 2002

FOR FURTHER INFORMATION CONTACT: Donna M. Combs, Committee Management Office (HFA-306), Food and Drug Administration, 5600 Fishers Lane, Rockville, MD 20857, 301-827-5496.

Dated: March 9, 2000.
Linda A. Suydam,
Senior Associate Commissioner.

[FR Doc. 00-6575 Filed 3-16-00; 8:45 am]

BILLING CODE 4160-01-F